DEPARTMENT OF TRANSPORTATION

Federal Aviation Administration

Notice of Release From Quitclaim Deed and Federal Grant Assurance Obligations for Delano Municipal Airport, Delano, CA

AGENCY: Federal Aviation Administration, DOT.

ACTION: Notice of Request to Release Airport Land.

SUMMARY: The Federal Aviation Administration (FAA) proposes to rule and invites public comment on the application for a release of approximately 9.89 acres of airport property at Delano Municipal Airport, Delano, California from all conditions contained in the Quitclaim Deed and Grant Assurances since the parcels of land are not needed for airport purposes. The property will be conveyed at its fair market value for the benefit of the airport. The use of the land by the City of Delano will remain the same and represents a continued compatible land use that will not interfere with the airport or its operation, thereby protecting the interests of civil aviation.

DATES: Comments must be received on or before March 7, 2013.

FOR FURTHER INFORMATION CONTACT: Comments on the request may be mailed or delivered to the FAA at the following address: Tony Garcia, Airports Compliance Program Manager, Federal Aviation Administration, Airports Division, Federal Register Comment, 15000 Aviation Boulevard, Lawndale, CA 90261. In addition, one copy of the comment submitted to the FAA must be mailed or delivered to Mr. Roman Dowling, Public Works Director, City of Delano, 1015 Eleventh Avenue, P.O. Box 3010, Delano, California 93216-3010.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport by surplus property conveyance deeds or grant agreements.

The following is a brief overview of the request:

The City of Delano, California requested a release from the conditions contained in the Quitclaim Deed and Grant Assurance obligations for approximately 9.89 acres of airport land. The property is located on the west and north sides of the airport in the vicinity of Lexington Street. A City public works facility occupies 7.8 acres, while 2.09 acres serve as part of the city golf course. The land has not served an airport purpose and will not be needed for future airport purposes. The land will be conveyed to the City for its fair market value. The property will continue to be used for the same purpose, so it will remain a compatible use that will not interfere with airport operations. The conveyance will not prevent development of the airport, thereby serving the interests of civil aviation.

Issued in Hawthorne, California, on January 29, 2013.
Brian Armstrong,
Manager, Safety and Standards, Airports Division, Western-Pacific Region.

[FR Doc. 2013-02475 Filed 2-4-13; 8:45 am]

BILLING CODE 4910-13-P